NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995. This is the second notice for public comment; the first was published in the Federal Register on February 21, 2018, and no comments were received. NSF is forwarding the proposed renewal submission to the Office of Management and Budget (OMB) for clearance simultaneously with the publication of this second notice. The full submission may be found at: http://www.reginfo.gov/public/do/PRAMain.

FOR FURTHER INFORMATION CONTACT: Comments should be addressed to: Office of Information and Regulatory Affairs of OMB, Attention: Desk Officer for National Science Foundation, 725 7th Street NW, Room 10235, Washington, DC 20503, and to Suzanne H. Plimpton, Reports Clearance Officer, National Science Foundation, 2415 Eisenhower Avenue, Room W18000 Alexandria, Virginia 22314, or send email to splimpto@nsf.gov. Copies of the submission may be obtained by calling Ms. Plimpton at (703) 292-7556. Individuals who use a telecommunications device for the deaf (TDD) may call the Federal Information Relay Service (FIRS) at 1-800-877-8339, which is accessible 24 hours a day, 7 days a week, 365 days a year (including federal holidays).

NSF may not conduct or sponsor a collection of information unless the collection of information displays a currently valid OMB control number and the agency informs potential persons who are to respond to the collection of information that such persons are not required to respond to the collection of information unless it displays a currently valid OMB control number.

SUPPLEMENTARY INFORMATION:

Comments: Comments are invited on (a) whether the proposed collection of information is necessary for the proper performance of the functions of the NSF, including whether the information shall have practical utility; (b) the accuracy of the NSF's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

Title: Developing an Evaluation Framework and Pilot-Testing a Longitudinal Tracking System for REU Site Students.

OMB Control Number: 3145-NEW.

Abstract: The National Science Foundation (NSF) seeks to develop and pilot test different approaches to collecting data electronically from one cohort of applicants to the Research Experiences for Undergraduates (REU) Program and track their program and career outcomes over time. The intent is for the pilot tests to provide information for NSF to select the most effective and least burdensome approach to collect data needed to monitor the Program, report to NSF leadership, and comply with a Congressional requirement.

The REU program was created in 1987 to strengthen the science, technology, engineering, and mathematics (STEM) workforce. Building on research experiences as “one of the most effective avenues for attracting students to and retaining them in science and engineering, and for preparing them for careers in these fields,” the program is designed to foster student research and promote diversity.

The main goal of the current study is to pilot test alternative approaches to collecting data required by Congress in the America COMPETES Reauthorization Act of 2010, which states that students in the REU program must “be tracked, for employment and continued matriculation in STEM fields, through receipt of the undergraduate degree and for at least three years thereafter” (Section 514[a][6] of Public Law 111-358). The legislation also mentions specific demographic characteristics of participants that need to be reported, such as gender, ethnicity, and enrollment in a two-year college. In addition to needing these data to report to Congress, NSF program officers and leadership need a more robust data system to enhance their efforts to monitor participation in the program and eventually to assess its effectiveness.

In addition to designing the system, the present study will pilot test different approaches to collecting data from a sample of REU Sites that volunteer to participate. By participating in this study, these Sites will have the opportunity to experience the data collections first hand and provide feedback that will be used to determine which approach will be the most effective, most efficient, and least burdensome for possible future implementation across all REU Sites.

The pilot includes:

1. Testing a web-based system that includes two approaches to obtain basic student background and participation information:

• Registration. The registration will be designed to collect the basic demographic and contact information needed for analysis and tracking purposes. Students will be asked to register at a website through which they will obtain a unique ID. With this unique ID, they will then apply directly to the REU Sites using the existing Site application processes. Staff at REU Sites will use the IDs provided by students to record application decisions and participation status of admitted applicants.

• Common Application. The common application will replace existing REU Site applications among participating Sites for the 2019 cycle. It will enable students to apply to multiple Sites through one application. Students will first complete the REU Registration described above, and then proceed to the common application through which they will submit additional information commonly required by Sites as part of their applications, such as transcripts. Staff at REU Sites will use the system to provide information needed by potential applicants, retrieve applicant information, record application decisions and participation status among admitted applicants, and produce reports and run queries of data submitted by applicants to their Sites.

2. Obtaining and integrating educational and employment information. The study will follow the subset of rising seniors who participate in the REU program in 2019 (as seniors are the large majority of participants) to:

• Obtain educational outcomes information from the National Student Clearinghouse (NSC)

• Administer a survey to obtain information on employment outcomes (among those not enrolled in graduate school at the time of the survey)

3. Conducting site visits to a few REU Sites participating in the pilot to interview principal investigators and program administrators, and to conduct focus groups with REU students. The site visits will be used to elicit in-depth feedback on the registration and common application systems as well as the tools available for PIs to obtain data and reports through the REU data system.

Estimate of Burden: At present, applications to the REU program are submitted yearly directly to each Site. For those participating in the registration pilot, it is estimated that applicants will spend 2 hours submitting basic information through the REU Data System and then complete the rest of their applications through the individual REU sites. For those participating in the common application pilot, it is estimated that each submission will take, on average, 12 hours. Reference writers are expected to take 0.5 hours to draft a letter in support of students' application to the program. It is estimated that REU Principal Investigators will spend 8.9 hours using the system to track applications.

Respondents: Individuals.

Estimated Number of Respondents: 30,455.

Estimated Total Annual Burden on Respondents: 96,130 hours.

Frequency of Responses: One round of pilot data collection.

Dated: May 18, 2018.
Suzanne H. Plimpton,
Reports Clearance Officer, National Science Foundation.

[FR Doc. 2018-11036 Filed 5-22-18; 8:45 am]

BILLING CODE 7555-01-P